DEPARTMENT OF LABOR

Employment and Training Administration

[TA-W-63,072]

Jockey International, Inc. Greensboro, NC; Notice of Termination of Investigation

Pursuant to section 221 of the Trade Act of 1974, as amended, an investigation was initiated on March 26, 2008 in response to a worker petition filed on behalf of workers at Jockey International, Inc., operating out of Greensboro, North Carolina but working in Millen, Georgia.

The petitioning group of workers is covered by an active certification of workers at Jockey International, Inc. Manufacturing Division, Millen, Georgia, as amended (TA-W-61,579A) which expires on June 15, 2009. Consequently, further investigation in this case would serve no purpose, and the investigation has been terminated.

Signed at Washington, DC, this 10th day of April 2008.
Richard Church,
Certifying Officer, Division of Trade Adjustment Assistance.

[FR Doc. E8-8242 Filed 4-16-08; 8:45 am]

BILLING CODE 4510-FN-P